FEDERAL ACCOUNTING STANDARDS ADVISORY BOARD

Notice of New Exposure Draft; Interpretation: Items Held for Remanufacture

Board Action: Pursuant to 31 U.S.C. 3511(d), the Federal Advisory Committee Act (Pub. L. 92-463), as amended, and the FASAB Rules of Procedure, as amended in April, 2004, notice is hereby given that the Federal Accounting Standards Advisory Board (FASAB) has issued an exposure draft, Interpretation: Items Held for Remanufacture.

The proposed Interpretation would clarify the principles governing the classification, valuation and reporting of items that are in the process of major overhaul or remanufacture for sale or for internal use. The Exposure Draft is available on the FASAB home page http://www.fasab.gov/exposure.html. Copies can be obtained by contacting FASAB at (202) 512-7350. Respondents are encouraged to comment on any party of the exposure draft.

Written comments are requested by October 16, 2006, and should be sent to: Wendy M. Comes, Executive Director, Federal Accounting Standards Advisory Board. 441 G Street, NW., Suite 6814, Mail Stop 6K17V, Washington, DC 20548.

FOR FURTHER INFORMATION CONTACT: Wendy Comes, Executive Director, 441 G Street, NW., Washington, DC 20548, or call (202) 512-7350.

Authority: Federal Advisory Committee Act, Pub. L. 92-463.

Dated: August 1, 2006.
Charles Jackson,
Federal Register Liaison Officer.

[FR Doc. 06-6677 Filed 8-3-06; 8:45 am]

BILLING CODE 1610-01-M